DEPARTMENT OF TRANSPORTATION

Federal Aviation Administration

Agency Information Collection Activity Under OMB Review, Request for Comments; Clearance of a New Information Collection Activity, Air Carriers Listing of Leading Outsource Maintenance Providers

AGENCY: Federal Aviation Administration (FAA), DOT.

ACTION: Notice and request for comments.

SUMMARY: The FAA invites public comments about our intention to request the Office of Management and Budget's (OMB) approval for a new information collection. The FAA will use the data from the proposed collection to target those leading outsource maintenance providers that may have a higher risk level which in turn would merit an increase of FAA surveillance.

DATES: Please submit comments by October 17, 2005.

FOR FURTHER INFORMATION CONTACT: Judith D. Street, 202-267-9895, Judy.Street@faa.gov, ABA-20, Federal Aviation Administration, 800 Independence Ave., SW., Washington, DC 20591.

SUPPLEMENTARY INFORMATION:

Federal Aviation Administration (FAA)

Title: Air Carriers Listing of Leading Outsource Maintenance Providers.

Type of Request: Approval for an emergency clearance of a new collection.

OMB Control Number: 2120-xxxx.

Form(s): Quarterly Outsource Maintenance Providers Utilization Report.

Affected Public: A Total of 121 Aircraft Operators.

Frequency: This information will be collected quarterly.

Estimated Average Burden Per Response: 6 minutes.

Estimated Annual Burden Hours: An estimated 48 hours annually.

Abstract: The data from this report will be used to target those leading outsource maintenance providers that may have a higher risk level which in turn would merit an increase of FAA surveillance.

ADDRESSES: Send comments to the Office of Information and Regulatory Affairs, Office of Management and Budget, 725 17th Street, NW., Washington, DC 20503, Attention: FAA Desk Officer.

Comments are invited on: Whether the proposed collection of information is necessary for proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on September 27, 2005.
Judith D. Street,
FAA Information Collection Clearance Officer, Information Systems and Technology Services Staff, ABA-20.

[FR Doc. 05-19743 Filed 9-30-05; 8:45 am]

BILLING CODE 4910-13-M